DEPARTMENT OF ENERGY

Federal Energy Regulatory Commission

[Docket No. EC05-98-000, et al.]

PSEG Energy Waterford LLC, et al.; Electric Rate and Corporate Filings

June 30, 2005.

The following filings have been made with the Commission. The filings are listed in ascending order within each docket classification.

1. PSEG Energy Waterford LLC, American Electric Power Service Corporation, Columbus Southern Power Company

[Docket No. EC05-98-000]

On June 24, 2005, PSEG Energy Waterford LLC, American Electric Power Service Corporation and Columbus Southern Power Company submitted an application pursuant to section 203 of the Federal Power Act for authorization of a disposition of jurisdictional facilities whereby PSEG Waterford Energy LLC is transferring to Columbus Southern Power Service Corporation, a nominal 820 MW natural gas-fired generating plant and related interconnection facilities in Waterford Township, Ohio, and an interconnection agreement relating to the generating plant.

Comment Date: 5 p.m. eastern time on July 15, 2005.

2. Northbrook New York, LLC, NEO Corporation, Omega Energy II, LLC, EIF Northbrook LLC

[Docket No. EC05-99-000]

Take notice that on June 27, 2005, Northbrook New York, LLC (Northbrook), NEO Corporation (NEO), Omega Energy II LLC (Omega), EIF Northbrook LLC (EIF) (collectively, Applicants) tendered for filing an application requesting all necessary authorization under section 203 of the Federal Power Act to permit EIF to acquire all the membership interests in Northbrook held by NEO and Omega. Applicants seek privileged treatment for Exhibit I to the Application.

Comment Date: 5 p.m. eastern time on July 18, 2005.

3. Tenaska Power Fund, L.P., TPF Subsidiary, Calpine Philadelphia, Inc., Calpine Leasing, Inc., Calpine Cogeneration Corporation, Calpine Power Company

[Docket No. EC05-100-000]

Take notice that on June 28, 2005, Tenaska Power Fund, L.P. (Power Fund), TPF Subsidiary (TPF Sub), Calpine Philadelphia, Inc. (CPI), Calpine Leasing, Inc. (CLI), Calpine Cogeneration Corporation (Calpine Cogeneration), and Calpine Power Company (Calpine Power) (collectively, Applicants) tendered for filing with the Federal Energy Regulatory Commission pursuant to section 203 of the Federal Power Act and Part 33 of the Commission's regulations, an application requesting that the Commission approve Power Fund's acquisition of CLI and CPI, which would give Power Fund indirect ownership and control of approximately 23 MW of electric generating facilities located in Philadelphia, Pennsylvania. Applicants request confidential treatment of certain parts of the Application.

Applicants state that a copy of the filing was served on the Pennsylvania Public Utility Commission.

Comment Date: 5 p.m. eastern time on July 19, 2005.

4. San Juan Mesa Wind Project, LLC

[Docket No. EG05-76-000]

Take notice on June 28, 2005, San Juan Mesa Wind Project, LLC (San Juan Mesa) filed with the Commission an application for determination of exempt wholesale generator status pursuant to Part 365 of the Commission's regulations.

San Juan Mesa states that a copy of the application has been served on the U.S. Securities and Exchange Commission and the New Mexico Public Regulation Commission.

Comment Date: 5 p.m. eastern time on July 19, 2005.

Standard Paragraph

Any person desiring to intervene or to protest in any of the above proceedings must file in accordance with Rules 211 and 214 of the Commission's Rules of Practice and Procedure (19 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Linda Mitry,
Deputy Secretary.

[FR Doc. E5-3627 Filed 7-8-05; 8:45 am]

BILLING CODE 6717-01-P